DEPARTMENT OF HEALTH AND HUMAN SERVICES

Health Resources and Services Administration

Agency Information Collection Activities: Proposed Collection: Public Comment Request; Reconciliation Tool for the Teaching Health Center Graduate Medical Education Program

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this Information Collection Request must be received May 26, 2017.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference, pursuant to Section 3506(c)(2)(A) of the Paperwork Reduction Act of 1995.

Information Collection Request Title: Reconciliation Tool for the Teaching Health Center Graduate Medical Education Program, OMB No. 0915-0342—Extension.

Abstract: The Teaching Health Center Graduate Medical Education (THCGME) Program, as authorized by section 340H of the Public Health Service (PHS) Act, awards payment for both direct and indirect expenses to support training for primary care residents in community-based ambulatory patient care settings. Payments for direct medical expenses are designed to compensate eligible teaching health centers for those expenses directly associated with resident training, while payments for indirect medical expenses are intended to compensate for the additional expenses of training residents in such programs.

Need and Proposed Use of the Information: THCGME Program payments are prospective payments, and the statute provides for a reconciliation process through which overpayments may be recouped and underpayments may be adjusted at the end of the fiscal year. This data collection instrument gathers information relating to the number of full-time equivalents (FTEs) in THC training programs in order to reconcile payments for both direct and indirect expenses.

Likely Respondents: The likely respondents to the THCGME Reconciliation Tool are THCGME Program award recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
THCGME Reconciliation Tool | 59 | 1 | 59 | 2.0 | 118
Total | 59 |  | 59 |  | 118

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2017-05960 Filed 3-24-17; 8:45 am]

BILLING CODE 4165-15-P